DEPARTMENT OF COMMERCE

Foreign-Trade Zones Board

[B-01-2018]

Foreign-Trade Zone (FTZ) 41—Milwaukee, Wisconsin; Limited Authorization of Production Activity; Quad/Graphics, Inc.—Chemical Research\Technology (Offset and Gravure Publication Printing Ink); Hartford and Sussex, Wisconsin

On December 5, 2017, the Port of Milwaukee, grantee of FTZ 41, submitted a notification of proposed production activity to the FTZ Board on behalf of Quad/Graphics, Inc.—Chemical Research\Technology, within Subzone 41O, in Hartford and Sussex, Wisconsin.

The notification was processed in accordance with the regulations of the FTZ Board (15 CFR part 400), including notice in the Federal Register inviting public comment (83 FR 1015, January 9, 2018). On April 4, 2018, the applicant was notified of the FTZ Board's decision that further review of part of the proposed activity is warranted. The FTZ Board authorized the production activity described in the notification on a limited basis, subject to the FTZ Act and the Board's regulations, including Section 400.14, and further subject to a restriction requiring that all foreign-status inputs used in the production activity be admitted to the subzone in privileged foreign status (19 CFR 146.41).

Dated: April 4, 2018.
Andrew McGilvray,
Executive Secretary.

[FR Doc. 2018-07321 Filed 4-9-18; 8:45 am]

BILLING CODE 3510-DS-P